ENVIRONMENTAL PROTECTION AGENCY

[FRL-9154-8]

EPA Board of Scientific Counselors Advisory Board; Notice of Charter Renewal

AGENCY: Environmental Protection Agency (EPA).

ACTION: Notice of charter renewal.

Notice is hereby given that the Environmental Protection Agency (EPA) has determined that, in accordance with the provisions of the Federal Advisory Committee Act (FACA), 5 U.S.C. App.2, the EPA Board of of Scientific Counselors Advisory Board (BOSC) is a necessary committee which is in the public interest. Accordingly, BOSC will be renewed for an additional two-year period. The purpose of BOSC is to provide advice and recommendations to the Administrator regarding science and engineering research, programs and plans, laboratories, and research-management practices. Inquiries may be directed to Greg Susanke, U.S. EPA, (Mail Code 8104R), 1200 Pennsylvania Avenue, NW., Washington, DC 20460, telephone (202) 564-9945, or susanke.greg@epa.gov.

Dated: March 10, 2010.
Paul T. Anastas,
Assistant Administrator, Office of Research and Development.

[FR Doc. 2010-12618 Filed 5-24-10; 8:45 am]

BILLING CODE 6560-50-P